DEPARTMENT OF LABOR

Occupational Safety and Health Administration

[Docket No. OSHA-2014-0022]

Nucor Steel Connecticut Incorporated; Revocation of Permanent Variance

AGENCY: Occupational Safety and Health Administration (OSHA), Labor.

ACTION: Notice.

SUMMARY: In this notice, OSHA announces the revocation of the April 8, 2016, permanent variance granted to Nucor Steel Connecticut Incorporated (NSCI), from certain provisions of OSHA's standard that regulates the control of hazardous energy (lockout/tagout).

DATES: The revocation of the permanent variance specified by this notice becomes effective on August 9, 2023.

FOR FURTHER INFORMATION CONTACT: Information regarding this notice is available from the following sources:

Press inquiries: Contact Mr. Frank Meilinger, Director, OSHA Office of Communications, U.S. Department of Labor; telephone: (202) 693-1999; email: meilinger.francis2@dol.gov.

General and technical information: Contact Mr. Kevin Robinson, Director, Office of Technical Programs and Coordination Activities, Directorate of Technical Support and Emergency Management, Occupational Safety and Health Administration, U.S. Department of Labor; telephone: (202) 693-2110; email: robinson.kevin@dol.gov.

SUPPLEMENTARY INFORMATION:

I. Notice of Revocation of Permanent Variance

On April 8, 2016, OSHA granted NSCI a Permanent Variance (81 FR 20680), which permitted NSCI to comply with alternative conditions instead of complying with certain requirements of OSHA's standard for control of hazardous energy, 29 CFR 1910.147. NSCI notified OSHA by letter dated May 12, 2023 (OSHA-2014-0022-014), that they are no longer performing the work activity described in the permanent variance, and for this reason, are requesting revocation of the permanent variance. NSCI's letter states that no employee at NSCI is performing the activity at issue in the variance and NSCI does not anticipate any employee ever performing this task again. NSCI has certified that they informed affected employees of the requested revocation of the permanent variance by posting a copy of the request letter in the location where notices to employees are normally posted.

Because NSCI has ceased performing the work activity addressed in the permanent variance, OSHA hereby revokes the permanent variance granted to NSCI on April 8, 2016 (86 FR 5253). From the date of publication of this notice, NSCI may no longer utilize the alternative control methods described in the permanent variance and need not comply with any alternative conditions described therein. NSCI must instead comply with all provisions of the control of hazardous energy (lockout/tagout) standard, 29 CFR 1910.147, wherever applicable.

II. Authority and Signature

James S. Frederick, Deputy Assistant Secretary of Labor for Occupational Safety and Health, 200 Constitution Avenue NW, Washington, DC 20210, authorized the preparation of this notice. Accordingly, the agency is issuing this notice pursuant to section 29 U.S.C. 655(6)(d), Secretary of Labor's Order No. 8-2020 (85 FR 58393; Sept. 18, 2020), and 29 CFR 1905.13.

Signed at Washington, DC, on August 3, 2023.
James S. Frederick,
Deputy Assistant Secretary of Labor for Occupational Safety and Health.

[FR Doc. 2023-17081 Filed 8-8-23; 8:45 am]

BILLING CODE 4510-26-P